DEPARTMENT OF ENERGY

Federal Energy Regulatory Commission

[Docket Nos. IC25-2-000]

Commission Information Collection Activities (FERC-517); Comment Request; Extension

AGENCY: Federal Energy Regulatory Commission, DOE.

ACTION: Notice of information collection and request for comments.

SUMMARY: In compliance with the requirements of the Paperwork Reduction Act of 1995, the Federal Energy Regulatory Commission (Commission or FERC) is soliciting public comment on the currently approved information collection, FERC-517 (Safety of Waterpower Projects and Project Works) represented by OMB Control No. 1902-0319. There are no changes to the information collection.

DATES: Comments on the collection of information are due March 4, 2025.

ADDRESSES: You may submit copies of your comments (identified by Docket No. IC25-2-000) by one of the following methods:

Electronic filing through https://www.ferc.gov, is preferred.

• Electronic Filing: Documents must be filed in acceptable native applications and print-to-PDF, but not in scanned or picture format.

• For those unable to file electronically, comments may be filed by USPS mail or by other delivery methods:

○ Mail via U.S. Postal Service Only: Federal Energy Regulatory Commission, Secretary of the Commission, 888 First Street NE, Washington, DC 20426.

○ All other delivery services: Federal Energy Regulatory Commission, Secretary of the Commission, 12225 Wilkins Avenue, Rockville, MD 20852.

Instructions: All submissions must be formatted and filed in accordance with submission guidelines at: https://www.ferc.gov. For user assistance, contact FERC Online Support by email at ferconlinesupport@ferc.gov, or by phone at (866) 208-3676 (toll-free).

Docket: Users interested in receiving automatic notification of activity in this docket or in viewing/downloading comments and issuances in this docket may do so at https://www.ferc.gov.

FOR FURTHER INFORMATION CONTACT: Kayla Williams may be reached by email at DataClearance@FERC.gov, telephone at (202) 502-6468.

SUPPLEMENTARY INFORMATION:

Title: FERC-517 (Safety of Waterpower Projects and Project Works).

OMB Control No.: 1902-0319.

Type of Request: Three-year extension of the FERC-517 information collection requirements with no changes to the current reporting requirements.

Abstract: This information collection will assist in the assessment of the safety of waterpower projects and project works licensed by the Commission. The Commission will use the information collection activities to evaluate project-specific dam and public safety assessments, determine whether those assessments are sufficient for the protection of life, health, and property, and to ensure that project works are being maintained in an adequate condition of repair.

The information is necessary in order to determine the urgency, priority, and scope of potential safety improvements or risk reduction measures that might be needed for the protection of life, health, and property.

The following reports are required and are a part of FERC-517:

18 CFR Part 12, Subpart B (Reports and Records)

The regulations at 18 CFR 12.10(a) and (b) require applicants and licensees to report promptly to the Regional Engineer ¹ any incident resulting in death or serious injury that occurs at the relevant project. Section 12.10(a) requires an oral report to the Regional Engineer by telephone of any condition affecting the safety of a project or projects works, “as soon as practicable after that condition is discovered.” Section 12.10(b) requires a written report that includes a description of the cause and location of the accident, which must be submitted within the time specified by the Regional Engineer.

¹ The Regional Engineer is a member of the Commission's staff.

The regulation at 18 CFR 12.10(b) requires a written report of any death, serious injury, or rescue. Such reports must describe any remedial actions taken or proposed to avoid or reduce the chance of similar occurrences in the future and must be verified in accordance with section 12.13.²

² Section 12.13 specifies how to verify the authenticity of a document submitted in accordance with 18 CFR part 12.

Section 12.10(b)(3), section 12.10(b)(2)(ii) provides that deaths that are not project-related may be reported by providing a copy of a clipping from a newspaper article, if available. Section 12.10(b)(2)(iii) provides that serious injuries and rescues that are not project-related do not require a written report. The initial report must be made by email or telephone as soon as practicable after the condition is discovered, “preferably within 72 hours.”

18 CFR Part 12, Subpart D (Review, Inspection, and Assessment by Independent Consultant)

Overview of Subpart D

Regulations at 18 CFR part 12 subpart D pertain to project safety inspections by independent consultants. These inspections sometimes are colloquially called “Part 12D inspections.” These inspections are licensee-facilitated and are in addition to the project safety inspections conducted regularly by Commission staff.

Subpart D requires two tiers of independent consultant inspections for licensed project developments that meet the criteria shown at section 12.30.

Subpart D adopted a two-tier structure that includes two types of inspections: a comprehensive assessment (CA) and a periodic inspection (PI). Each comprehensive assessment will be performed at a ten-year interval, with the periodic inspection occurring midway between comprehensive assessments. A periodic inspection will focus on a project's performance over the previous five years, and will include a field inspection, a review of project operations, an in-depth review of monitoring data trends and behavior, and an evaluation of whether any potential failure modes are occurring. A comprehensive assessment will build on a periodic inspection with a deep dive into every aspect of a project, including a detailed review of the design basis, analyses of record, and construction history; an evaluation of spillway adequacy; a Potential Failure Mode Analysis; and a Risk Analysis.

Engineering Guidelines—Chapters 15 & 16

Chapter 15 of the Engineering Guidelines provides guidance on a Supporting Technical Information Document (STID). A STID serves as a compendium of knowledge and information about a project and greatly facilitates the review and evaluation of the safety and performance of project works by licensees, consultants, and Commission staff. The STID consists of a hard copy and a digital reference. It is required for all projects subject to 18 CFR 12D and is used for assessing the completeness and appropriateness of technical information.

The STID summarizes the project elements and details that, except in the event of detailed studies or construction, do not change significantly over time. The digital reference (e.g., a CD, DVD, or other form of electronic media) includes a compilation of all available source material and additional supporting information, formatted so that the licensee, commission staff, or consultants can identify and retrieve the information they need. A searchable electronic version of the hard copy material must be included on the digital reference. The licensee is responsible for compiling the information for the STID and for creating and maintaining the document for use by themselves, the Part 12D independent consultants, and Commission staff.

Chapter 16 of the Engineering Guidelines requires licensees to submit a detailed Part 12D Inspection Plan prior to conducting either type of inspection (i.e., a periodic inspection or comprehensive assessment) that describes the scope of the inspection, proposes an Independent Consultant Team, and establishes the proposed schedule. Section 16-3.3.1 of chapter 16 of the Engineering Guidelines provides that the Part 12D Inspection Plan must include the following information:

• Project name, FERC number, and state(s) where the project is located;

• Type of Part 12D Inspection (Comprehensive Assessment or Periodic Inspection), and a reminder that a Risk Analysis must be completed for a Comprehensive Assessment;

• A brief description of the project features;

• A proposed team of Independent Consultants, including the identification and assessment of technical disciplines to be represented on the team of Independent Consultants; the names and resumes for the Independent Consultants; a list of supporting team member roles and their intended areas of expertise; and the names and resumes of facilitators for any Potential Failure Mode Analysis or Risk Analysis as needed; and

• A schedule for Part 12D Inspection-related activities.

Under chapter 16, members of the Independent Consultant Team are required to prepare a Pre-Inspection Preparation Report to document their initial findings from their review of project documentation, instrumentation data, and other information prior to the field inspection. Chapter 16 provides an outline for this PRA activity.

Chapter 16 also provides outlines for, and describes the scope of, the periodic inspections and comprehensive assessments that are required in 18 CFR part 12 subpart D.

Chapters 17 and 18 provide additional details and licensee guidance for conducting a Potential Failure Mode Analysis and a Level 2 Risk Analysis, which are required components of a comprehensive assessment.

Independent Consultant Team Proposals and Reports

The regulations at 18 CFR 12.31(a) and 12.31(b), respectively, list specific qualifications that are required of independent consultants and independent consultant teams. The regulation at 18 CFR 12.34(a) requires that the licensee obtain written approval of the independent consultant team from the Director of the Division of Dam Safety and Inspections (D2SI) prior to performing a periodic inspection or comprehensive assessment.

The regulation at 18 CFR 12.34(b) requires that the licensee submit a detailed independent consultant team proposal to the Director of D2SI at least 180 days prior to performing a periodic inspection or comprehensive assessment. As part of this, the licensee must submit documentation of the experience and qualifications for all members of the independent consultant team, including one or more independent consultants and additional contributing members, as needed. This enables the Commission staff to evaluate the breadth and depth of the team's experience and ensure that it is commensurate with the scale, complexity, and technical disciplines of the project and type of review being performed. The Commission intends for a comprehensive assessment to require a higher level of experience and expertise than a periodic inspection, due to the broader scope of the comprehensive assessment.

The regulation at 18 CFR 12.34(c) authorizes the Director of D2SI to disapprove an independent consultant team member, regardless of demonstrated experience and qualifications, for good cause, such as having a report rejected by the Commission within the preceding five years. This provision allows the Commission to ensure that independent consultants' inspections are performed by qualified parties.

18 CFR Part 12, Subpart F (Owner's Dam Safety Program)

Overview of Subpart F

The regulation at 18 CFR 12.60 provides that subpart F applies to all licensees with dams or other project works with a high or significant hazard potential. The terms “High hazard potential” and “Significant hazard potential and “Low hazard potential” are defined at section 12.3(b)(13).

Owner's Dam Safety Program (ODSP) Document

Section 12.62 provides that any ODSP Document that includes one or more dams or project features with a high hazard potential must designate a Chief Dam Safety Engineer.³ Other ODSPs may designate either a Chief Dam Safety Engineer or Chief Dam Safety Coordinator.⁴ Section 12.62 also requires that the ODSP must be signed by the Owner and, as applicable, the Chief Dam Safety Engineer or the Chief Dam Safety Coordinator.

³ Section 12.61(a) provides that a Chief Dam Safety Engineer is the designated individual, who is a licensed engineer, who oversees the implementation of the ODSP and has primary responsibility for ensuring the safety of the licensee's dam(s) and other project features.

⁴ Section 12.61(b) provides that a Chief Dam Safety Coordinator is not required to be a licensed engineer but has the same responsibilities as a Chief Dam Safety Engineer.

The regulation at 18 CFR 12.63 requires the following additional contents of an ODSP document:

(a) Dam safety policy, objectives, and expectations;

(b) Responsibilities for dam safety;

(c) Dam safety training program;

(d) Communication, coordination, reporting, and reports;

(e) Record keeping and databases; and

(f) Continuous improvement;

The regulation at 18 CFR 12.64 requires any ODSP to be reviewed by the licensee's dam safety staff and discussed with senior management on an annual basis. In addition, section 12.64 requires that any findings, analysis, corrective measures, or revisions be submitted to the D2SI Regional Engineer for possible revision. This requirement applies to any licensee with a dam or other project feature with a high or significant hazard potential.

ODSP Qualification Statement for External Audit or Peer Review

The regulation at 18 CFR 12.65 applies to licensees of one or more dams or other project features classified as having a high hazard potential. Section 12.65(a) requires an independent external audit or peer review of the ODSP and its implementation. The audit or peer review is required to be performed at an interval not to exceed five years.

Before the audit or peer review, 18 CFR 12.65(b) requires the licensee to submit to the Regional Engineer a statement of qualifications of the prospective auditor(s) or peer review team. The licensee must receive written acceptance of the statement of qualifications before performing the audit or peer review.

ODSP External Audit or Peer Review Report

The regulation at 18 CFR 12.65(c) requires the auditor(s) or peer review team to document their findings in a report. The report must be reviewed by:

• The project's owner,

• The Chief Dam Safety Engineer or Chief Dam Safety Coordinator, and

• Management having responsibility in the area(s) audited or reviewed.

Subsequently, the report on the audit or peer review must be submitted to the Regional Engineer.

ODSP Request for Extension of Time

Typically, the Commission's letters to licensees pertaining to ODSPs and ODSP audits require submittal of a plan and schedule or report within a set period of time (e.g., provide a plan and schedule within 30 days from the date of this letter). Although neither the ODSP regulations nor any of the existing ODSP guidance documents expressly contemplate extension of time requests, there are times when a licensee cannot meet that schedule and therefore files a letter with Commission staff requesting an extension of time to complete ODSP-related tasks.

Estimate of Annual Burden: ⁵ The Commission estimates the burden and cost ⁶ for this information collection as follows:

⁵ Burden is defined as the total time, effort, or financial resources expended by persons to generate, maintain, retain, or disclose or provide information to or for a Federal agency. For further explanation of what is included in the information collection burden, refer to 5 CFR part 1320.

⁶ The Commission staff believes that industry is similarly situated to the Commission in terms of cost for wages and benefits. Based on FERC's current annual average cost of $207,786 (for salary plus benefits) for a full-time equivalent, the average hourly cost is $100/hour. Therefore, the hourly cost used in the burden calculation is $100.

In the tables below, the burden estimates for team proposals and reports involving PIs and CAs, define a single response as the consolidated filings during the typical ten-year cycle for Independent Consultant's Safety Inspections (one PI and one CA each during the ten-year period). Therefore, the estimated average number of annual responses for the consolidated filings is averaged over the ten-year period and represented as 0.1 responses on average per year.

FERC-517—Direct and Indirect Annual Burden and Cost Changes
A. Type of response | B. Number of respondents | C. Avg. number of annual responses per respondent | D. Avg. annual burden hrs. and cost per response | E. Total number of annual responses | F. Total annual burden hrs. and cost
|  |  |  | (col. B × col. C) | (col. D × col. E)
Applicant's or Licensee's Report of Project-Related Deaths, Serious Injuries, or Rescues | 65 | 2.14 | 2 hrs.; $200 | 139.10 | 278.20 hrs.; $27,820.
Ind. Cons. Team Proposals and Reports on PIs and CAs—Simple Facility ⁷ | 375 | 0.1 | 12 hrs.; $1,200 | 37.50 | 450 hrs.; $45,000.
Ind. Cons. Team Proposals and Reports on PIs and CAs—Complex Facility ⁸ | 375 | 0.1 | 32.6 hrs.; $3,260 | 37.50 | 1,222.50 hrs.; $122,250.
Licensee's Request for Exemption | 10 | 1 | 2 hrs.; $200 | 10 | 20 hrs.; $2,000.
ODSP Document—Small Program ⁹ | 180 | 0.2 | 60 hrs.; $6,000 | 36 | 2,160 hrs.; $216,000.
ODSP Document—Large Program ¹⁰ | 45 | 0.2 | 120 hrs.; $12,000 | 9 | 1,080 hrs.; $108,000.
ODSP Document Revision | 225 | 1 | 6 hrs.; $600 | 225 | 1,350 hrs.; $135,000.
ODSP Qualification Statement for External Audit or Peer Review | 225 | 0.2 | 8 hrs.; $800 | 45 | 360 hrs.; $36,000.
ODSP External Audit or Peer Review Report—Small Program ¹¹ | 180 | 0.2 | 62 hrs.; $6,200 | 36 | 2,232 hrs.; $223,200.
ODSP External Audit or Peer Review Report—Large Program ¹² | 45 | 0.2 | 242 hrs.; $24,200 | 9 | 2,178 hrs.; $217,800.
ODSP Request for Extension of Time | 5 | 1 | 4 hrs.; $400 | 5 | 20 hrs.; $2,000.
Total Hours and Costs | 1,730 |  |  | 589 | 11,350.5 hrs.; $1,135,050.

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁷ Includes direct and contracting burden and cost.

⁸ Includes direct and contracting burden and cost.

⁹ This information collection activity applies to each licensee with dams or other project features with a high or significant hazard potential, but with fewer than three such dams or other project features.

¹⁰ This information collection activity applies to each licensee with three or more dams or project features with a high or significant hazard potential.

¹¹ This information collection activity applies to each licensee with dams or other project features with a high hazard potential, but with fewer than three such dams or project features. The burden estimates for this activity include direct and contracting burdens and costs.

¹² This information collection activity applies to each licensee with three or more dams or project features with a high hazard potential. The burden estimates for this information collection activity include direct and contracting burdens and costs.

Dated: December 27, 2024.
Carlos D. Clay,
Acting Deputy Secretary.

[FR Doc. 2024-31565 Filed 1-2-25; 8:45 am]

BILLING CODE 6717-01-P